DEPARTMENT OF EDUCATION

[Docket No. ED-2013-ICCD-0082]

Agency Information Collection Activities; Submission to the Office of Management and Budget for Review and approval; Comment Request; Elementary and Secondary Improvement Formula Grants

AGENCY: Office of Elementary and Secondary Education (OESE), Department of Education (ED).

ACTION: Notice.

SUMMARY: In accordance with the Paperwork Reduction Act of 1995 (44 U.S.C. chapter 3501 et seq.), ED is proposing an extension of an existing information collection.

DATES: Interested persons are invited to submit comments on or before September 26, 2013.

ADDRESSES: Comments submitted in response to this notice should be submitted electronically through the Federal eRulemaking Portal at http://www.regulations.gov by selecting Docket ID number ED-2013-ICCD-0082 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Tomakie Washington, 202-401-1097 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Elementary and Secondary Improvement Formula Grants.

OMB Control Number: 1810-0682.

Type of Review: Extension without change of an existing collection of information.

Respondents/Affected Public: State, Local, or Tribal Governments.

Total Estimated Number of Annual Responses: 3,102.

Total Estimated Number of Annual Burden Hours: 229,800.

Abstract: This information collection request covers requirements for applications to the School Improvement Grants program. On January 21, 2010, the U.S. Department of Education (Department) published final requirements and a State educational agency (SEA) application for the School Improvement Grants (SIG) program authorized under section 1003(g) of Title I of the Elementary and Secondary Education Act of 1965 (ESEA), as amended, and funded through the Department of Education Appropriations Act, 2009, and the American Recovery and Reinvestment Act of 2009 (ARRA) (FY 2009). The final requirements defined the criteria that an SEA must use to award FY 2013 SIG funds to local educational agencies (LEAs). In awarding these funds, an SEA must give priority to the LEAs with the lowest-achieving schools that demonstrate the greatest need for the funds and the strongest commitment to using the funds to provide adequate resources to their lowest-achieving schools that are eligible to receive services provided through SIG funds in order to raise substantially the achievement of the students attending those schools. The information collection activities consist of: (1) Applications for an SEA to submit to the Department to apply for FY 2013 SIG funds; (2) the reporting of specific school-level data on the use of SIG funds and specific interventions implemented in LEAs receiving SIG funds that the Department currently collects through EDFacts; (3) the process for an LEA to apply to its SEA for SIG funds; and (4) the SEAs posting its LEAs applications on the SEAs Web site.

Dated: August 22, 2013.
Stephanie Valentine,
Acting Director, Information Collection Clearance Division, Privacy, Information and Records Management Services, Office of Management.

[FR Doc. 2013-20820 Filed 8-26-13; 8:45 am]

BILLING CODE 4000-01-P